FEDERAL ELECTION COMMISSION

Sunshine Act Meeting

Previously Announced Data and Time: Thursday, July 25, 2002, 10 a.m. Meeting Open to the Public.

The following item was added to the agenda: Bipartisan Campaign Reform Act Rulemaking Calendar (revised).

The following item was held over to August 1, 2002: Draft Advisory Opinion 2002-08, David Vitter for Congress Committee by William J. Vanderbrook, Treasurer.

Date and Time: Tuesday, July 30, 2002 at 10 a.m.

Place: 999 E Street, NW., Washington, DC.

Status: This meeting will be closed to the public.

Items to be discussed: Compliance matters pursuant to 2 U.S.C. 437g.

Audits conducted pursuant to 2 U.S.C. 437g. 438(b) and Title 26, U.S.C.

Matters concerning participation in civil actions or proceedings or arbitration.

Internal personnel rules and procedures or matters affecting a particular employee.

Date and Time: Thursday, August 1, 2002 at 10 a.m.

Place: 999 E Street NW., Washington, DC (Ninth Floor).

Status: This meeting will be open to the public.

Items to be discussed: Correction and Approval of Minutes.

Draft Advisory Opinion 2002-08: David Vitter for Congress Committee by William J. Vanderbrook, Treasurer.

Draft Advisory Opinion 2002-10: Green Party of Michigan by Marc Reichardt, Chair.

Draft Notice of Proposed Rulemaking on “Electioneering Communications.”

Routine Administrative Matters.

Person to Contact for Information: Mr. Ron Harris, Press Officer, Telephone: (202) 694-1220.

Mary W. Dove,
Secretary of the Commission.

[FR Doc. 02-18958 Filed 7-23-02; 10:56 am]

BILLING CODE 6715-01-M